DEPARTMENT OF COMMERCE

National Oceanic and Atmospheric Administration

RIN: 0648-XI18

Fisheries of the South Atlantic and Gulf of Mexico; Southeast Data, Assessment, and Review (SEDAR); SEDAR 16 King Mackerel Assessment Panel; Public Meeting

AGENCY: National Marine Fisheries Service (NMFS), National Oceanic and Atmospheric Administration (NOAA), Commerce.

ACTION: Notice of SEDAR 16 South Atlantic and Gulf of Mexico King Mackerel Post-Assessment Workshop Conference Call.

SUMMARY: The SEDAR 16 Assessment Panel will meet via conference call to review assessment model results and discuss future documentation needs. See SUPPLEMENTARY INFORMATION.

DATES: The SEDAR 16 Assessment Workshop Panel will meet on Tuesday, June 17, 2008, from 12 p.m. to 3 p.m. (EST).

ADDRESSES: The meeting will be held via conference call. Listening stations are available at the following locations: South Atlantic Fishery Management Council, 4055 Faber Place Drive #201, North Charleston, SC 29405; and the Gulf of Mexico Fishery Management Council, 2203 North Lois Avenue, Suite 1100, Tampa, FL 33607.

FOR FURTHER INFORMATION CONTACT: Julie A. Neer, SEDAR Coordinator, SAFMC, 4055 Faber Place, Suite 201, North Charleston, SC 29405; telephone: (843) 571-4366 or toll free: (866) SAFMC-10; fax: (843) 769-4520.

SUPPLEMENTARY INFORMATION: The South Atlantic, Gulf of Mexico, and Caribbean Fishery Management Councils; in conjunction with NOAA Fisheries, the Atlantic States Marine Fisheries Commission, and the Gulf States Marine Fisheries Commission; implemented the Southeast Data, Assessment and Review (SEDAR) process, a multi-step method for determining the status of fish stocks. SEDAR 16 is developing an assessment of the South Atlantic and Gulf of Mexico King Mackerel stock.

During this conference call the SEDAR 16 King Mackerel Assessment Panel will follow-up on activities from its May 5-9, 2008 meeting by reviewing the assessment model results, and discussing future documentation needs.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to the South Atlantic Fishery Management Council office (see ADDRESSES) at least 10 business days prior to the meeting.

Dated: May 27, 2008.
Tracey L. Thompson,
Acting Director, Office of Sustainable Fisheries, National Marine Fisheries Service.

[FR Doc. E8-12045 Filed 5-29-08; 8:45 am]

BILLING CODE 3510-22-S